DEPARTMENT OF LABOR

Employment and Training Administration

[TA-W-64,516]

JDSU Uniphase, Inc., San Jose, CA; Notice of Termination of Investigation

Pursuant to Section 221 of the Trade Act of 1974, as amended, an investigation was initiated on November 24, 2008, in response to a worker petition on behalf of workers at JDSU Uniphase, Inc., San Jose, California.

The petitioning group of workers is covered by an earlier petition (TA-W-64,440) filed on November 17, 2008 that is the subject of an ongoing investigation for which a determination has not yet been issued. Further investigation in this case would duplicate efforts and serve no purpose; therefore the investigation under this petition has been terminated.

Signed at Washington, DC, this 7th day of January 2009.
Richard Church,
Certifying Officer, Division of Trade Adjustment Assistance.

[FR Doc. E9-642 Filed 1-13-09; 8:45 am]

BILLING CODE 4510-FN-P